FEDERAL HOUSING FINANCE AGENCY

[No. 2011-N-14]

Privacy Act of 1974; System of Records

AGENCY: Federal Housing Finance Agency.

ACTION: Notice of the establishment of new systems of records and removal of existing systems of records.

SUMMARY: In accordance with the requirements of the Privacy Act of 1974, as amended (Privacy Act), the Federal Housing Finance Agency (FHFA) gives notice of the proposed establishment of three new Privacy Act systems of records and the removal of four existing Privacy Act systems of records.

The three proposed new systems are: “Emergency Notification System” (FHFA-14); “Payroll, Retirement, Time and Attendance, and Leave Records” (FHFA-15); and “Personnel Investigative Records” (FHFA-16). The proposed new systems will replace systems of records issued by FHFA's predecessor agencies, the Office of Federal Housing Enterprise Oversight (OFHEO) and the Federal Housing Finance Board (FHFB). Proposed systems (FHFA-14) and (FHFA-15) will replace OFHEO systems “OFHEO-2 Pay and Leave System” and “OFHEO-6 Emergency Contingency Plan and Personnel Locator System,” and FHFB system “FHFB-1 Employee Attendance Records.” Proposed system (FHFA-16) will replace FHFB system “FHFB-5 Personnel Investigative Records.”

FHFA has previously published a system of records notice (“Financial Management System” (FHFA-2), 74 FR 31949 (July 6, 2009)); however, in publishing that notice, FHFA did not explicitly state that OFHEO and FHFB system of records notices were being replaced. Notice is hereby given that the systems of records notice “OFHEO-1 Financial Management System” and “FHFB-2 General Travel and Transportation Files” have been replaced by “Financial Management System” (FHFA-2). Upon the effective date of this notice, the replaced OFHEO system, “OFHEO-1” published at 63 FR 9007 (February 23, 1998) and “FHFB-2” as amended at 71 FR 61053 (October 17, 2006) will be removed.

In addition, upon the effective date of this notice, the replaced FHFB systems, “FHFB-1” published at 60 FR 46120 (September 5, 1995), as amended at 62 FR 66865 (December 22, 1997) and 71 FR 61052 (October 17, 2006), and “FHFB-5” (originally published as “FHFB-7 Agency Personnel Investigative Records” at 60 FR 46120 (September 5, 1995)), as amended at 64 FR 14920 (March 29, 1999), 68 FR 39947 (July 3, 2003), and 71 FR 61052 (October 17, 2006); and the replaced OFHEO systems, “OFHEO-2” published at 63 FR 9007 (February 23, 1998), and “OFHEO-6” published at 71 FR 6085 (February 6, 2006) will be removed.

DATES: The addition of these new systems of records will become effective February 14, 2012 without further notice unless comments necessitate otherwise. FHFA will publish a new notice if the effective date is delayed in order to review comments or if changes are made based on comments received. To be assured of consideration, comments must be received on or before February 6, 2012.

ADDRESSES: Submit comments only once, identified by “2011-N-14,” using any one of the following methods:

• Email: Comments to Alfred M. Pollard, General Counsel, may be sent by email to RegComments@fhfa.gov. Please include “2011-N-14” in the subject line of the message.

• Federal eRulemaking Portal: http://www.regulations.gov. Follow the instructions for submitting comments. If you submit your comment to the Federal eRulemaking Portal, please also send it by email to FHFA at RegComments@fhfa.gov to ensure timely receipt by FHFA. Please include “2011-N-14” in the subject line of the message.

• U.S. Mail, United Parcel Service, Federal Express, or Other Mail Service: The mailing address for comments is: Alfred M. Pollard, General Counsel, Attention: Comments/2011-N-14, Federal Housing Finance Agency, 1700 G Street NW., Washington, DC 20552. Please note that all mail sent to the FHFA via the U.S. Postal Service is routed through a national irradiation facility, a process that may delay delivery by approximately two weeks. For any time-sensitive correspondence, please plan accordingly.

• Hand Delivered/Courier: The hand delivery address is: Alfred M. Pollard, General Counsel, Attention: Comments/2011-N-14, Federal Housing Finance Agency, 1700 G Street NW., Washington, DC 20552. The package should be logged at the Guard's Desk, First Floor, on business days between 9 a.m. to 5 p.m.

See SUPPLEMENTARY INFORMATION for additional information on submission and posting of comments.

FOR FURTHER INFORMATION CONTACT: Stacy Easter, Privacy Act Officer, privacy@fhfa.gov or (202) 414-3762, or David A. Lee, Senior Agency Official for Privacy, privacy@fhfa.gov or (202) 414-3804 (not toll free numbers), Federal Housing Finance Agency, 1700 G Street NW., Washington DC 20552. The telephone number for the Telecommunications Device for the Deaf is (800) 877-8339.

SUPPLEMENTARY INFORMATION:

I. Comments

FHFA seeks public comments on the three proposed new systems of records and will take all comments into consideration. See 5 U.S.C. 552a(e)(4) and (11).

Instructions: In addition to referencing “Comments/2011-N-14,” please reference the title and number of the system of records your comment addresses.

Posting and Public Availability of Comments: All comments received will be posted without change on the FHFA Web site at http://www.fhfa.gov, and will include any personal information provided. In addition, copies of all comments received will be available for examination by the public on business days between the hours of 10 a.m. and 3 p.m., at the Federal Housing Finance Agency, Fourth Floor, 1700 G Street NW., Washington, DC 20552. To make an appointment to inspect comments, please call the Office of General Counsel at (202) 414-6924.

II. Introduction

This notice satisfies the Privacy Act requirement that an agency publish a system of records notice in the Federal Register when there is an addition to the agency's system of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. The Director of FHFA has determined that records and information in these three new systems of records are not exempt from the requirements of the Privacy Act.

As required by the Privacy Act, 5 U.S.C. 552a(r), and pursuant to paragraph 4c of Appendix I to OMB Circular No. A-130, “Federal Agency Responsibilities for Maintaining Records About Individuals,” dated February 8, 1996 (61 FR 6427, 6435 February 20, 1996), FHFA has submitted a report describing the three new systems of records covered by this notice to the Committee on Oversight and Government Reform of the House of Representatives, the Committee on Homeland Security and Governmental Affairs of the Senate, and the Office of Management and Budget.

III. Proposed Systems of Records

The first proposed system is “Emergency Notification System” (FHFA-14). The proposed system will contain records related to FHFA employees and contractor personnel who provide emergency contact information, including personal phone numbers, home and email addresses, and names and contact information of emergency points of contact. This proposed system of records will replace the system of records issued by FHFA's predecessor agency OFHEO. The replaced OFHEO system, “OFHEO-6 Emergency Contingency Plan and Personnel Locator System” was published at 71 FR 6085 (February 6, 2006).

The second proposed system is “Payroll, Retirement, Time and Attendance, and Leave Records” (FHFA-15). The proposed system will contain records of individual's name; home address; telephone numbers; Social Security number; organization code; pay rate; salary; grade; length of service; pay and leave records; source documents for posting time and leave attendance; and deductions for Medicare; Old-Age, Survivors, and Disability Insurance (also known as Social Security); bonds; Federal Employee Group Life Insurance; union dues; taxes; allotments; retirement; charities; Federal Government and commercial health benefits; Flexible Spending Account; Long Term Care Insurance; Thrift Savings Plan contributions; 401k plan contributions; awards; shift schedules; pay differential; tax lien data; wage garnishments; and any other information pertaining to payroll, retirement, time and attendance, and leave. This proposed system of records will replace the systems of records issued by FHFA's predecessor agencies, FHFB and OFHEO. The replaced FHFB system “FHFB-1 Employee Attendance Records” was published at 60 FR 46120 (September 5, 1995), as amended at 62 FR 66865 (December 22, 1997), and at 71 FR 61052 (October 17, 2006), and the OFHEO system, “OFHEO-2 Pay and Leave System,” was published at 63 FR 9007 (February 23, 1998).

The third proposed system is “Personnel Investigative Records” (FHFA-16). The proposed system will contain individual's name; date of birth; current and former home addresses; work histories; education and financial information; Social Security number; information about family members; information about references; types and dates of investigations; investigative reports; dates, levels and types of clearances; and other information pertinent to granting or denying a security clearance or making a suitability determination. This proposed system of records will replace the system of records issued by FHFA's predecessor agency FHFB. The replaced FHFB system, “FHFB-5 Personnel Investigative Records,” was originally published at 60 FR 46120 (September 5, 1995—originally published as “FHFB-7 Agency Personnel Investigative Records”), as amended at 62 FR 66865 (December 22, 1997), 68 FR 39947 (July 3, 2003), and 71 FR 61052 (October 17, 2006).

The three proposed new systems and the routine uses for each are set out in their entirety and described in detail below.

FHFA-14

SYSTEM NAME:

Emergency Notification System.

SECURITY CLASSIFICATION:

Sensitive but unclassified.

SYSTEM LOCATIONS:

Federal Housing Finance Agency, 1700 G Street NW., Washington, DC 20552; 1625 Eye Street NW., Washington, DC 20006; 1750 Pennsylvania Avenue NW., Washington, DC 20006; and any alternate work site utilized by employees of the Federal Housing Finance Agency (FHFA) or by individuals assisting such employees.

CATEGORIES OF INDIVIDUALS COVERED BY THE SYSTEM:

This system contains records on current and former employees, detailees, interns, fellows, volunteers, persons who work at FHFA under the Intergovernmental Personnel Act, and current and former contractor personnel.

CATEGORIES OF RECORDS IN THE SYSTEM:

The records in the system contain the individual's name, division, office, home, work and personal electronic mail addresses, work, home and cellular telephone numbers, Blackberry PIN and telephone numbers, and other emergency contact information.

AUTHORITY FOR MAINTENANCE OF THE SYSTEM:

5 U.S.C. 301 and Executive Order 12656, Assignment of Emergency Preparedness Responsibilities, dated November 18, 1988.

PURPOSE(S):

The purpose of the system of records is to maintain emergency contact information for employees and contractor personnel. The system provides for high-speed message delivery that reaches employees and contractor personnel in response to threat alerts issued by the Department of Homeland Security, weather related emergencies, or other critical situations that disrupt the operations and accessibility of a worksite. The system also provides for personnel accountability during an emergency, through personnel sign-in and rapid alert and notification.

ROUTINE USES OF RECORDS MAINTAINED IN THE SYSTEM, INCLUDING CATEGORIES OF USERS AND THE PURPOSE OF SUCH USES:

In addition to those disclosures generally permitted under 5 U.S.C. 552a(b) of the Privacy Act, all or a portion of the records or information contained in this system may be disclosed outside FHFA as a routine use as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, foreign or a financial regulatory organization charged with the responsibility of investigating or prosecuting such violation or charged with enforcing or implementing the statute, or rule, regulation or order issued pursuant thereto.

(3) To any individual during the course of any inquiry or investigation conducted by FHFA, or in connection with civil or criminal litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a court, magistrate, or other administrative body in the course of presenting evidence, including disclosures to counsel or witnesses in the course of civil discovery, litigation, or settlement negotiations, or in connection with criminal proceedings, when FHFA is a party to the proceeding or has a significant interest in the proceeding, to the extent that the information is determined to be relevant and necessary.

(7) To the Department of Justice when (a) FHFA, or any component thereof; or (b) any employee of FHFA in his or her official capacity; or (c) any employee of the agency in his or her individual capacity where the Department of Justice or FHFA has agreed to represent the employee; or (d) the United States, where FHFA determines that litigation is likely to affect FHFA or any of its components, is a party to the litigation or has an interest in such litigation, and the use of such records by the Department of Justice or FHFA is deemed by FHFA to be relevant and necessary to the litigation provided, however, that in each case it has been determined that the disclosure is compatible with the purpose for which the records were collected.

(8) To a Member of Congress, to a Congressional staff member or to a Congressional Committee in response to an inquiry from the Member of Congress, the Congressional staff member or Congressional Committee made at the written request of the individual about whom the record is maintained.

(9) To contractor personnel, grantees, volunteers, interns, and others performing or working on a contract, service, grant, cooperative agreement, or project for FHFA.

(10) To appropriate federal agencies and other public authorities for use in records management inspections.

(11) To officials of a labor organization when relevant and necessary to their duties of exclusive representation concerning personnel policies, practices, and matters affecting working conditions.

(12) To the Office of Management and Budget and the General Accountability Office when relevant and necessary to carry out their responsibilities or to perform other functions within their jurisdiction.

(13) To the Office of the Inspector General for investigating allegations of abuse or misconduct, or to perform other functions within the jurisdiction of the Office of the Inspector General.

(14) To any Federal Government authority for the purpose of coordinating and reviewing agency continuity of operations plans or emergency contingency plans developed for responding to Department of Homeland Security threat alerts, weather related emergencies, or other critical situations.

DISCLOSURE TO CONSUMER REPORTING AGENCIES:

None.

POLICIES AND PRACTICES FOR STORING, RETRIEVING, ACCESSING, RETAINING, AND DISPOSING OF RECORDS IN THE SYSTEM:

STORAGE:

The records are maintained in electronic format, paper form, and magnetic disk or tape. Electronic records are stored in computerized databases. Paper and magnetic disk or tape records are stored in locked file rooms, locked file cabinets, or locked safes.

RETRIEVABILITY:

The records are retrieved by email address, the individual's name, assigned file number, or some other personal identifier.

SAFEGUARDS:

Records are safeguarded in a secured environment. Buildings where records are stored have security cameras and 24-hour security guard service. Computerized records are safeguarded through use of access codes and other information technology security measures. Paper records are safeguarded by locked file rooms, locked file cabinets, or locked safes. Access to records is restricted to those who require the records in the performance of official duties related to the purposes for which the system is maintained.

RETENTION AND DISPOSAL:

The records are retained and disposed of in accordance with the appropriate National Archives and Records Administration General Records Schedules and FHFA Records Retention and Disposition Schedules. Disposal is by shredding or other appropriate disposal systems.

SYSTEM MANAGER(S) AND ADDRESS:

Office of the Deputy Chief Operating Officer, Federal Housing Finance Agency, 1625 Eye Street NW., Washington, DC 20006.

NOTIFICATION PROCEDURES:

Direct inquiries as to whether this system contains a record pertaining to an individual to the Privacy Act Officer, Federal Housing Finance Agency, 1700 G Street NW., Washington, DC 20552, or privacy@fhfa.gov in accordance with the procedures set forth in 12 CFR part 1204.

RECORD ACCESS PROCEDURES:

Direct requests for access to a record to the Privacy Act Officer, Federal Housing Finance Agency, 1700 G Street NW., Washington, DC 20552, or privacy@fhfa.gov in accordance with the procedures set forth in 12 CFR part 1204.

CONTESTING RECORD PROCEDURES:

Direct requests to contest or appeal an adverse determination for a record to the Privacy Act Appeals Officer, Federal Housing Finance Agency, 1700 G Street NW., Washington, DC 20552, or privacy@fhfa.gov in accordance with the procedures set forth in 12 CFR part 1204.

RECORD SOURCE CATEGORIES:

Record source is from the individuals on whom the records are maintained.

EXEMPTIONS CLAIMED FOR THE SYSTEM:

None.

FHFA-15

SYSTEM NAME:

Payroll, Retirement, Time and Attendance, and Leave Records.

SECURITY CLASSIFICATION:

Sensitive but unclassified.

SYSTEM LOCATIONS:

(1) Payroll files, retirement case files, time and attendance records and reports, and service history files: Federal Housing Finance Agency (FHFA), 1625 Eye Street NW., Washington, DC 20006;

(2) Notices of personnel action and other pay-related records: Government Employees Services Division, National Finance Center, U.S. Department of Agriculture, Attn: CS-0106, P.O. Box 60000, New Orleans, LA 70160-0001;

(3) Retired official personnel files: National Archives and Records Administration, National Personnel Records Center (Civilian Personnel Records Center), 1411 Boulder Boulevard, Valmeyer, IL 62295; and

(4) Any alternate work site utilized by employees of FHFA or by individuals assisting such employees. For administrative purposes, duplicate systems may exist within FHFA at the duty station of each employee.

CATEGORIES OF INDIVIDUALS COVERED BY THE SYSTEM:

This system contains records on current and former employees, detailees, interns, fellows, volunteers, persons who work at FHFA under the Intergovernmental Personnel Act, and current and former contractor personnel.

CATEGORIES OF RECORDS IN THE SYSTEM:

The records in the system contain the individual's name; home address; telephone numbers; Social Security number; organization code; pay rate; salary; grade; length of service; pay and leave records; source documents for posting time and attendance; and deductions for Medicare; Old-Age, Survivors, and Disability Insurance (also known as Social Security); bonds; Federal Employee Group Life Insurance; union dues; taxes; allotments; retirement; charities; Federal Government and commercial health benefits; Flexible Spending Account; Long Term Care Insurance; Thrift Savings Plan contributions; 401k plan contributions; awards; shift schedules; pay differential; tax lien data; and wage garnishments; and any other information pertaining to payroll, retirement, time and attendance, and leave. The payroll, retirement, and leave records described in this notice form a part of the information contained in the National Finance Center's integrated Personnel and Payroll System (PPS). Personnel records contained in PPS are covered under the government-wide systems of records notice published by the Office of Personnel Management (OPM/GOVT-1 and OPM/GOVT-5).

AUTHORITY FOR MAINTENANCE OF THE SYSTEM:

5 U.S.C. 301, the Federal Home Loan Bank Act (12 U.S.C. 1421-1449), and the Federal Housing Enterprises Financial Safety and Soundness Act of 1992 (12 U.S.C. 4501, et seq.), both as amended by the Housing and Economic Recovery Act of 2008, Public Law No. 110-289, 122 Stat. 2654 (2008).

PURPOSE(S):

The purpose of the system of records is for FHFA's operations for payroll, time and attendance, leave, insurance, tax, retirement, qualifications, and benefits; to prepare related reports to other Federal agencies including the Department of Treasury and the Office of Personnel Management; and to locate FHFA employees and determine such matters as their period of service, type of leave, qualifications, benefits, and pay.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside FHFA as a routine use as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, foreign or a financial regulatory organization charged with the responsibility of investigating or prosecuting such violation or charged with enforcing or implementing the statute, or rule, regulation or order issued pursuant thereto.

(3) To any individual during the course of any inquiry or investigation conducted by FHFA, or in connection with civil or criminal litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a court, magistrate, or other administrative body in the course of presenting evidence, including disclosures to counsel or witnesses in the course of civil discovery, litigation, or settlement negotiations, or in connection with criminal proceedings, when FHFA is a party to the proceeding or has a significant interest in the proceeding, to the extent that the information is determined to be relevant and necessary.

(7) To the Department of Justice when (a) FHFA, or any component thereof; or (b) any employee of FHFA in his or her official capacity; or (c) any employee of the agency in his or her individual capacity where the Department of Justice or FHFA has agreed to represent the employee; or (d) the United States, where FHFA determines that litigation is likely to affect FHFA or any of its components, is a party to the litigation or has an interest in such litigation, and the use of such records by the Department of Justice or FHFA is deemed by FHFA to be relevant and necessary to the litigation provided, however, that in each case it has been determined that the disclosure is compatible with the purpose for which the records were collected.

(8) To a Member of Congress, to a Congressional staff member or to a Congressional Committee in response to an inquiry from the Member of Congress, the Congressional staff member or Congressional Committee made at the written request of the individual about whom the record is maintained.

(9) To contractor personnel, grantees, volunteers, interns, and others performing or working on a contract, service, grant, cooperative agreement, or project for FHFA.

(10) To appropriate federal agencies and other public authorities for use in records management inspections.

(11) To officials of a labor organization when relevant and necessary to their duties of exclusive representation concerning personnel policies, practices, and matters affecting working conditions.

(12) To the Office of Management and Budget and the General Accountability Office when relevant and necessary to carry out their responsibilities or to perform other functions within their jurisdiction.

(13) To the Office of the Inspector General for investigating allegations of abuse or misconduct, or to perform other functions within the jurisdiction of the Office of the Inspector General.

(14) To the Department of Agriculture, National Finance Center to provide personnel, payroll, and related services and systems involving FHFA employees.

(15) To the Department of the Treasury, Bureau of the Public Debt to provide financial management services and systems, including local and temporary duty travel, involving FHFA employees.

(16) To the Internal Revenue Service and appropriate State and local taxing authorities.

(17) To appropriate Federal agencies to effect salary or administrative offsets, or for other purposes connected with the collection of debts owed to the United States.

(18) To the Office of Child Support Enforcement, Administration for Children and Families, Department of Health and Human Services for the purpose of locating individuals to establish paternity, establish and modify orders of child support enforcement actions as required by the Personal Responsibility and Work Opportunity Reconciliation Act, the Federal Parent Locator System and the Federal Tax Offset System.

(19) To the Office of Child Support Enforcement for release to the Social Security Administration for verifying Social Security numbers in connection with the operation of the Federal Parent Locator System by the Office of Child Support Enforcement.

(20) To the Office of Child Support Enforcement for release to the Department of Treasury for purposes of administering the Earned Income Tax Credit Program and verifying a claim with respect to employment in a tax return.

(21) To commercial benefit providers, carriers, vendors, contractor personnel, and agents to process claims and provide related administrative services involving FHFA employees.

(22) To any Federal, state, or local government agency compiling tax withholding, retirement contributions, or allotments to charities, labor unions, wage garnishments, and other authorized recipients.

(23) To any member of the public for employment verification at an employee's written request.

(24) To any judgment creditor for the purpose of wage garnishment.

DISCLOSURE TO CONSUMER REPORTING AGENCIES:

None.

POLICIES AND PRACTICES FOR STORING, RETRIEVING, ACCESSING, RETAINING, AND DISPOSING OF RECORDS IN THE SYSTEM:

STORAGE:

The records are maintained in electronic format, paper form, and magnetic disk or tape. Electronic records are stored in computerized databases. Paper and magnetic disk or tape records are stored in locked file rooms, locked file cabinets, or locked safes.

RETRIEVABILITY:

The records are retrieved by the individual's name, Social Security number, birth date, or some other personal identifier.

SAFEGUARDS:

Records are safeguarded in a secured environment. Buildings where records are stored have security cameras and 24-hour security guard service. Computerized records are safeguarded through use of access codes and other information technology security measures. Paper records are safeguarded by locked file rooms, locked file cabinets, or locked safes. Access to records is restricted to those who require the records in the performance of official duties related to the purposes for which the system is maintained.

RETENTION AND DISPOSAL:

The records are retained and disposed of in accordance with the appropriate National Archives and Records Administration General Records Schedules and FHFA Records Retention and Disposition Schedules. Disposal is by shredding or other appropriate disposal systems.

SYSTEM MANAGER(S) AND ADDRESS:

Office of Human Resources Management, Federal Housing Finance Agency, 1625 Eye Street NW., Washington, DC 20006.

NOTIFICATION PROCEDURE:

Direct inquiries as to whether this system contains a record pertaining to an individual to the Privacy Act Officer, Federal Housing Finance Agency, 1700 G Street NW., Washington, DC 20552, or privacy@fhfa.gov in accordance with the procedures set forth in 12 CFR part 1204.

RECORD ACCESS PROCEDURES:

Direct requests for access to a record to the Privacy Act Officer, Federal Housing Finance Agency, 1700 G Street NW., Washington, DC 20552, or privacy@fhfa.gov in accordance with the procedures set forth in 12 CFR part 1204.

CONTESTING RECORD PROCEDURES:

Direct requests to contest or appeal an adverse determination for a record to the Privacy Act Appeals Officer, Federal Housing Finance Agency, 1700 G Street NW., Washington, DC 20552, or privacy@fhfa.gov in accordance with the procedures set forth in 12 CFR part 1204.

RECORD SOURCE CATEGORIES:

Record source is from the individuals on whom the records are maintained, official personnel records of individuals on whom the records are maintained, time and attendance records, withholding certificates, third-party benefit providers, and other pay-related records prepared by the individual or the Office of Human Resources Management.

EXEMPTIONS CLAIMED FOR THE SYSTEM:

None.

FHFA-16

SYSTEM NAME:

Personnel Investigative Records.

SECURITY CLASSIFICATION:

Sensitive but unclassified.

SYSTEM LOCATIONS:

Federal Housing Finance Agency, 1700 G Street NW., Washington, DC 20552; 1625 Eye Street NW., Washington, DC 20006; 1750 Pennsylvania Avenue NW., Washington, DC 20006; and any alternate work site utilized by employees of the Federal Housing Finance Agency (FHFA) or by individuals assisting such employees. For administrative purposes, duplicate systems may exist within FHFA at the duty station of each employee. For background investigations adjudicated by the Department of State (DOS) or the Office of Personnel Management (OPM), DOS and OPM may retain copies of those files pursuant to their records retention schedules.

CATEGORIES OF INDIVIDUALS COVERED BY THE SYSTEM:

This system contains records on current and former employees, detailees, interns, fellows, volunteers, persons who work at FHFA under the Intergovernmental Personnel Act, and current and former contractor personnel.

CATEGORIES OF RECORDS IN THE SYSTEM:

The records in the system contain the individual's name, date of birth, citizenship, current and former home addresses, work histories, education and financial information, Social Security number, information about family members, information about references, types and dates of investigations, investigative reports (including those from Federal and State law enforcement agencies, DOS, Department of Defense, OPM, and other federal entities), dates, levels and types of clearances, and any other information pertinent to granting or denying a security clearance or making a suitability determination.

AUTHORITY FOR MAINTENANCE OF THE SYSTEM:

Executive Order 10450, Security Requirements for Government Employment, dated April 27, 1953; and Executive Order 12958, Classified National Security Information, dated April 17, 1995.

PURPOSE(S):

The purpose of the system of records is to collect and maintain records of processing of personnel-security related clearance actions, to record suitability determinations, to record whether security clearances are issued or denied, and to verify eligibility for access to classified information or assignment to a sensitive position. Records may also be used for personnel actions, such as removal from sensitive duties, removal from employment, or revocation of a security clearance.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside FHFA as a routine use as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, foreign or a financial regulatory organization charged with the responsibility of investigating or prosecuting such violation or charged with enforcing or implementing the statute, or rule, regulation or order issued pursuant thereto.

(3) To any individual during the course of any inquiry or investigation conducted by FHFA, or in connection with civil or criminal litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a court, magistrate, or other administrative body in the course of presenting evidence, including disclosures to counsel or witnesses in the course of civil discovery, litigation, or settlement negotiations, or in connection with criminal proceedings, when FHFA is a party to the proceeding or has a significant interest in the proceeding, to the extent that the information is determined to be relevant and necessary.

(7) To the Department of Justice when (a) FHFA, or any component thereof; or (b) any employee of FHFA in his or her official capacity; or (c) any employee of the agency in his or her individual capacity where the Department of Justice or FHFA has agreed to represent the employee; or (d) the United States, where FHFA determines that litigation is likely to affect FHFA or any of its components, is a party to the litigation or has an interest in such litigation, and the use of such records by the Department of Justice or FHFA is deemed by FHFA to be relevant and necessary to the litigation provided, however, that in each case it has been determined that the disclosure is compatible with the purpose for which the records were collected.

(8) To a Member of Congress, to a Congressional staff member or to a Congressional Committee in response to an inquiry from the Member of Congress, the Congressional staff member or Congressional Committee made at the written request of the individual about whom the record is maintained.

(9) To contractor personnel, grantees, volunteers, interns, and others performing or working on a contract, service, grant, cooperative agreement, or project for FHFA.

(10) To appropriate federal agencies and other public authorities for use in records management inspections.

(11) To officials of a labor organization when relevant and necessary to their duties of exclusive representation concerning personnel policies, practices, and matters affecting working conditions.

(12) To the Office of Management and Budget and the General Accountability Office when relevant and necessary to carry out their responsibilities or to perform other functions within their jurisdiction.

(13) To the Office of the Inspector General for investigating allegations of abuse or misconduct, or to perform other functions within the jurisdiction of the Office of the Inspector General.

(14) To disclose information to an agency in the executive, legislative, or judicial branch, or the District of Columbia Government, in response to its request related to issuing a security clearance or conducting a security or suitability investigation of an individual. Only information that is relevant and necessary to the requesting agency's decision on the matter will be released.

(15) To verify a security clearance in response to an inquiry from a security office of an agency in the executive, legislative, or judicial branch, or the District of Columbia Government. Also, to provide FHFA employees and contractor personnel access to classified data or areas, when their official duties require such access.

DISCLOSURE TO CONSUMER REPORTING AGENCIES:

None.

POLICIES AND PRACTICES FOR STORING, RETRIEVING, ACCESSING, RETAINING AND DISPOSING OF RECORDS IN THE SYSTEM:

STORAGE:

The records are maintained in electronic format, paper form, and magnetic disk or tape. Electronic records are stored in computerized databases. Paper and magnetic disk or tape records are stored in locked file rooms, locked file cabinets, or locked safes.

RETRIEVABILITY:

The records are retrieved by the individual's name, Social Security number, date of birth, or some other personal identifier.

SAFEGUARDS:

Records are safeguarded in a secured environment. Buildings where records are stored have security cameras and 24-hour security guard service. Computerized records are safeguarded through use of access codes and other information technology security measures. Paper records are safeguarded by locked file rooms, locked file cabinets, or locked safes. Access to records is restricted to those who require the records in the performance of official duties related to the purposes for which the system is maintained.

RETENTION AND DISPOSAL:

The records are retained and disposed of in accordance with the appropriate National Archives and Records Administration General Records Schedules and FHFA Records Retention and Disposition Schedules. Disposal is by shredding or other appropriate disposal systems.

SYSTEM MANAGER(S) AND ADDRESS:

Office of Human Resources Management, Federal Housing Finance Agency, 1625 Eye Street NW., Washington, DC 20006.

NOTIFICATION PROCEDURE:

Direct inquiries as to whether this system contains a record pertaining to an individual to the Privacy Act Officer, Federal Housing Finance Agency, 1700 G Street NW., Washington, DC 20552, or privacy@fhfa.gov in accordance with the procedures set forth in 12 CFR part 1204.

RECORD ACCESS PROCEDURES:

Direct requests for access to a record to the Privacy Act Officer, Federal Housing Finance Agency, 1700 G Street NW., Washington, DC 20552, or privacy@fhfa.gov in accordance with the procedures set forth in 12 CFR part 1204.

CONTESTING RECORD PROCEDURES:

Direct requests to contest or appeal an adverse determination for a record to the Privacy Act Appeals Officer, Federal Housing Finance Agency, 1700 G Street NW., Washington, DC 20552, or privacy@fhfa.gov in accordance with the procedures set forth in 12 CFR part 1204.

RECORD SOURCE CATEGORIES:

Record source is from the individuals on whom the records are maintained, official personnel records of individuals on whom the records are maintained, the Office of Personnel Management and Departments of State and Defense investigative files, employment information maintained by FHFA's personnel office, current and former FHFA employees, other individuals who provide information during the course of an investigation, Federal law enforcement agencies, and external and internal inquiries.

EXEMPTIONS CLAIMED FOR THE SYSTEM:

Pursuant to 5 U.S.C. 552a(k)(5), a record contained in this system is exempt from 5 U.S.C. 552a(c)(3), (d), (e)(1), (e)(4)(G), (e)(4)(H), (e)(4)(I) and (f), to the extent that disclosure would reveal the identity of a source who furnished information to the Federal Government under an express promise that his or her identity would be held in confidence.

Dated: December 28, 2011.
Edward J. DeMarco,
Acting Director, Federal Housing Finance Agency.

[FR Doc. 2011-33794 Filed 1-4-12; 8:45 am]

BILLING CODE 8070-01-P